DEPARTMENT OF COMMERCE

Foreign-Trade Zones Board

[B-62-2020]

Foreign-Trade Zone (FTZ) 266—Dane County, Wisconsin; Authorization of Production Activity; Coating Place, Inc. (Pharmaceuticals); Verona, Wisconsin

On October 16, 2020, Coating Place, Inc. submitted a notification of proposed production activity to the FTZ Board for its facility within FTZ 266, in Verona, Wisconsin.

The notification was processed in accordance with the regulations of the FTZ Board (15 CFR part 400), including notice in the Federal Register inviting public comment (85 FR 67709, October 26, 2020). On February 16, 2021, the applicant was notified of the FTZ Board's decision that no further review of the activity is warranted at this time. The production activity described in the notification was authorized, subject to the FTZ Act and the FTZ Board's regulations, including Section 400.14.

Dated: February 16, 2021.
Elizabeth Whiteman,
Acting Executive Secretary.

[FR Doc. 2021-03399 Filed 2-18-21; 8:45 am]

BILLING CODE 3510-DS-P